DEPARTMENT OF TRANSPORTATION

Federal Aviation Administration

Submission Deadline for Schedule Information for San Francisco International Airport for the Summer 2012 Scheduling Season

AGENCY: Department of Transportation, Federal Aviation Administration (FAA).

ACTION: Notice of submission deadline.

SUMMARY: Under this notice, the FAA announces the designation of San Francisco International Airport (SFO) as a Level 2 airport under the International Air Transport Association (IATA) Worldwide Slot Guidelines (WSG) effective for the Summer 2012 scheduling season. The FAA has determined this designation is necessary based primarily on runway capacity, existing congestion and delays, and expected increased congestion due to a multi-year airport construction project. The FAA announces a deadline of October 20, 2011, for carriers to submit to the FAA schedule information for all planned operations at SFO between the hours of 0600 and 2259, Pacific time, (1300 and 0559 UTC). This deadline is a week later than the IATA deadline due to late notice of the Level 2 designation. The FAA will grant an additional short extension if a carrier requires additional time to complete its initial submission, provided that extension would not impede preparations for the IATA Schedules Conference in November 2011.

DATES: Schedules must be submitted no later than October 20, 2011.

ADDRESSES: Schedules may be submitted by mail to the Slot Administration Office, AGC-200, Office of the Chief Counsel, 800 Independence Ave., SW., Washington, DC 20591; facsimile: 202-267-7277; or by e-mail to: 7-AWA-slotadmin@faa.gov.

FOR FURTHER INFORMATION CONTACT: Robert Hawks, Office of the Chief Counsel, Federal Aviation Administration, 800 Independence Avenue, SW., Washington, DC 20591; telephone number: 202-267-7143; fax number: 202-267-7971; e-mail: rob.hawks@faa.gov.

SUPPLEMENTARY INFORMATION: IATA guidelines define a Level 2 airport as one where there is the potential for congestion during some periods of the day, week, or season, which can be resolved by voluntary cooperation between airlines. The FAA has determined that SFO should be designated as Level 2 based primarily on runway capacity, existing congestion and delays, and the potential that congestion may increase during construction of Runway Safety Areas (RSA) from 2012 to 2015.

The FAA has reviewed runway capacity at SFO over the last two years. The airport acceptance rate for arrivals ranges between approximately 30 and 48 per hour depending on weather conditions. The lower value reflects operations in instrument meteorological conditions, and the higher value reflects visual meteorological conditions. A number of other variables impact an airport's arrival and departure rates, including runway configuration, fleet mix, surface movements, and individual aircraft performance.

The FAA, the airport authority, and other stakeholders (including representatives of carriers operating at SFO) have been meeting regularly to review construction plans, identify ways to improve airport and airspace efficiency, and mitigate construction impacts whenever possible. These efforts will continue with the goal to mitigate negative impacts to capacity, but the FAA expects some decrease in runway capacity during construction. The construction's impact to capacity is not definitively known but will be determined as construction plans are finalized. Accordingly, it is not possible to specifically define runway capacity limits. In conducting its review of planned schedules, the FAA will consider factors such as average runway arrival and departure rates, historical demand, experienced congestion and delays, and projections on operational impacts related to the construction.

The FAA will review the cumulative scheduled flight information beginning with the Summer 2012 scheduling season to monitor major scheduling peaks that could result in lengthy delays. This advance review of schedule information would permit the FAA to discuss the operational implications of proposed schedules and suggest changes before schedules are finalized and published. The FAA expects the Level 2 review alone may not reduce existing congestion and delays. Rather, the FAA expects to mitigate potential delay increases resulting from new or retimed flights. The FAA believes there is available capacity at SFO, especially during off-peak times, to accommodate additional operations. During the construction, forecasted congestion and delays could be mitigated through voluntary carrier scheduling decisions (such as retiming operations to less congested times and reducing overall operations by combining frequencies and upgauging aircraft). The FAA believes a Level 2 designation would provide the necessary information to assist carriers with these voluntary scheduling decisions.

Finally, the FAA expects the Level 2 designation will allow interested parties to address any imbalance between demand and capacity and work cooperatively to reduce delays. The FAA supports the Level 2 process as a preferred and viable alternative to full slot coordination under Level 3 or other administrative actions to address congestion during the RSA construction. The FAA will review the Level 2 designation, at a minimum, in advance of each scheduling season.

Accordingly, the FAA designates SFO as a Level 2 airport between the hours of 0600 and 2259, Pacific time, (1300 and 0559 UTC), but carriers may submit schedule information for any time throughout the day. Carriers should submit to the FAA schedule information for all planned operations no later than October 20, 2011. This deadline is one week later than the IATA deadline because of the late designation of SFO as Level 2.

The FAA recognizes some carriers may have difficulty meeting the schedule submission deadline. While most have at least preliminary schedule plans, some may require additional time to prepare the initial schedule submission. The FAA will grant an additional short extension (not exceeding two weeks). The FAA intends to follow the IATA WSG for the mid-November Schedules Conference to the extent possible and needs schedules as soon as possible to meet IATA deadlines.

Carriers should submit schedule information in sufficient detail including, at minimum, the carrier, flight number, scheduled time of arrival or departure, half-hour period, frequency, and effective dates. IATA standard schedule information format and data elements (Standard Schedules Information Manual or SSIM) may be submitted and may provide additional information that could be beneficial in assessing operational impacts.

The summer scheduling season is from March 25, 2012, through October 27, 2012, in recognition of the IATA scheduling season dates. The FAA understands there may be differences in schedule times due to different U.S. daylight saving time dates, and the FAA will accommodate these to the extent possible.

SFO currently is designated Level 2 for certain international passenger terminal facilities. This notice does not replace that local schedule facilitation process. Carriers should submit schedule information to the local facilitator according to the IATA schedule. The FAA will work with the local facilitator to ensure consistency of planned schedule information.

Issued in Washington, DC, on October 11, 2011.
Rebecca B. MacPherson,
Assistant Chief Counsel for Regulations.

[FR Doc. 2011-26774 Filed 10-13-11; 8:45 am]

BILLING CODE 4910-13-P